DEPARTMENT OF ENERGY

[Docket No. ER03-911-001, et al.]

Federal Energy Regulatory Commission

Deseret Generating & Transmission Co-operative, Inc., et al.; Electric Rate and Corporate Filings

June 11, 2003.

The following filings have been made with the Commission. The filings are listed in ascending order within each docket classification.

1. Deseret Generation & Transmission Co-operative, Inc.

[Docket No. ER03-911-001]

Take notice that on June 9, 2003, Deseret Generation & Transmission Co-operative, Inc. submitted an errata to its June 3, 2003 filing in this proceeding.

Comment Date: June 30, 2003.

2. The Potomac Edison Company

[Docket No. ER03-937-000]

Take notice that on June 9, 2003, The Potomac Edison Company (Potomac Edison), tendered for filing with the Federal Energy Regulatory Commission (Commission) pursuant to the Commission's regulations, 18 CFR 35.15, Notices of Cancellation of Potomac Edison's Rate Schedule FERC Nos. 60, 61, 62 and 63 consisting of Transition Service Agreements with the City of Hagerstown and the Towns of Thurmont, Front Royal and Williamsport, respectively. Potomac Edison states that the Agreements terminated by their own terms effective June 20, 2003, and Potomac Edison therefore requests an effective date of June 30, 2003, for the cancellations.

Comment Date: June 30, 2003.

3. Central Maine Power Company

[Docket No. ER03-938-000]

Take notice that on June 9, 2003, Central Maine Power Company (CMP) tendered for filing an unexecuted Local Network Operating Agreement entered into with Hancock Lumber Co., Inc. CMP states that service will be provided pursuant to CMP's Open Access Transmission Tariff, designated rate schedule CMP—FERC Electric Tariff, Fifth Revised Volume No. 3, Original Service Agreement Number 189.

Comment Date: June 30, 2003.

4. Westar Energy, Inc.

[Docket No. ER03-939-000]

Take notice that on June 10, 2003, Westar Energy, Inc. (Westar) submitted for filing a supplement and an amendment to First Revised FPC No. 72 (Supercedes Original FPC No. 72, as supplemented). Westar states that Supplement No. 3 to the Electric Interconnection Contract (Contract) between Westar and Western Light & Telephone Company, Inc., now known as Aquila Networks-WPK (Aquila) adds two 34.5 kV interconnection points which were put in service a number of years ago. Westar states that Amendment No. 2 provides for removal of points of interconnection between Westar and Aquila as allowed by the Contract.

Westar further states that a copy of this filing was served upon the Kansas Corporation Commission and Aquila.

Comment Date: June 30, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-15559 Filed 6-18-03; 8:45 am]

BILLING CODE 6717-01-P